DEPARTMENT OF ENERGY

Federal Energy Regulatory Commission

Notice of Commission Staff Attendance

The Federal Energy Regulatory Commission (Commission) hereby gives notice that members of the Commission's staff may attend the following meeting related to the transmission planning activities of the Florida Reliability Coordinating Council, Inc.

The Florida Reliability Coordinating Council, Inc. (FRCC) Process First Quarter Meeting.

May 6, 2015, 10:00 a.m.-12:00 p.m. (Eastern Standard Time)

The above-referenced meeting will be via web conference.

The above-referenced meeting is open to stakeholders.

Further information may be found at: https://www.frcc.com/Default.aspx.

The discussions at the meeting described above may address matters at issue in the following proceedings:

Docket No. ER13-1932, Tampa Electric Company

Docket No. ER13-1922, Duke Energy Florida (Progress Energy Florida)

Docket No. ER13-1929, Florida Power & Light Company

Docket No. ER13-1928, Duke Energy Carolinas/Carolina Power & Light

Docket Nos. ER13-107, ER13-1935, South Carolina Electric & Gas Company

Docket No. ER13-1941, Alabama Power Company et al.

Docket No. ER13-1940, Ohio Valley Electric Corporation

For more information, contact Rhonda Jones, Office of Energy Market Regulation, Federal Energy Regulatory Commission at (202) 502-6154 or Rhonda.Jones@ferc.gov.

Dated: May 5, 2015.
Kimberly D. Bose,
Secretary.

[FR Doc. 2015-11406 Filed 5-11-15; 8:45 am]

BILLING CODE 6717-01-P